DEPARTMENT OF HEALTH AND HUMAN SERVICES

Centers for Medicare & Medicaid Services

[Document Identifier: CMS-10666, CMS-319, and CMS-10653]

Agency Information Collection Activities: Submission for OMB Review; Comment Request

AGENCY: Centers for Medicare & Medicaid Services, Health and Human Services (HHS).

ACTION: Notice.

SUMMARY: The Centers for Medicare & Medicaid Services (CMS) is announcing an opportunity for the public to comment on CMS' intention to collect information from the public. Under the Paperwork Reduction Act of 1995 (PRA), federal agencies are required to publish notice in the Federal Register concerning each proposed collection of information, including each proposed extension or reinstatement of an existing collection of information, and to allow a second opportunity for public comment on the notice. Interested persons are invited to send comments regarding the burden estimate or any other aspect of this collection of information, including the necessity and utility of the proposed information collection for the proper performance of the agency's functions, the accuracy of the estimated burden, ways to enhance the quality, utility, and clarity of the information to be collected, and the use of automated collection techniques or other forms of information technology to minimize the information collection burden.

DATES: Comments on the collection(s) of information must be received by the OMB desk officer by February 20, 2026.

ADDRESSES: Written comments and recommendations for the proposed information collection should be sent within 30 days of publication of this notice to www.reginfo.gov/public/do/PRAMain. Find this particular information collection by selecting “Currently under 30-day Review—Open for Public Comments” or by using the search function.

To obtain copies of a supporting statement and any related forms for the proposed collection(s) summarized in this notice, please access the CMS PRA website by copying and pasting the following web address into your web browser: https://www.cms.gov/Regulations-and-Guidance/Legislation/PaperworkReductionActof1995/PRA-Listing.

FOR FURTHER INFORMATION CONTACT: William Parham at (410) 786-4669.

SUPPLEMENTARY INFORMATION: Under the Paperwork Reduction Act of 1995 (PRA) (44 U.S.C. 3501-3520), federal agencies must obtain approval from the Office of Management and Budget (OMB) for each collection of information they conduct or sponsor. The term “collection of information” is defined in 44 U.S.C. 3502(3) and 5 CFR 1320.3(c) and includes agency requests or requirements that members of the public submit reports, keep records, or provide information to a third party. Section 3506(c)(2)(A) of the PRA (44 U.S.C. 3506(c)(2)(A)) requires federal agencies to publish a 30-day notice in the Federal Register concerning each proposed collection of information, including each proposed extension or reinstatement of an existing collection of information, before submitting the collection to OMB for approval. To comply with this requirement, CMS is publishing this notice that summarizes the following proposed collection(s) of information for public comment.

1. Type of Information Collection Request: Reinstatement with change of a previously approved collection; Title of Information Collection: Non-Exchange Entities; Use: The original information collection request (ICR) that provided the authority for HHS to collect the information necessary for these requests to deviate was titled Non-Exchange Entities (0938-1329) and was approved on 5/23/2017. The original ICR was discontinued on 3/4/2020 due to the concurrent discontinuation of standardized options in the HHS Notice of Benefit and Payment Parameters for 2019; Final Rule (2019 Payment Notice).

The ICR that provided HHS the authority to collect the necessary information to enable web-brokers and issuers using the Classic DE and EDE pathways to submit a request to deviate from the manner in which standardized plan options are differentially displayed on HealthCare.gov was reinstated concurrently with the reintroduction of standardized plan option requirements in the HHS Notice of Benefit and Payment Parameters for 2023 Final Rule (2023 Payment Notice). The standardized plan options that were differentially displayed on HealthCare.gov and that web-brokers or issuers utilizing the Classic DE and EDE pathways were required to differentially display were updated in the HHS Notice of Benefit and Payment Parameters for 2024 Final Rule (2024 Payment Notice) and HHS Notice of Benefit and Payment Parameters for 2025 Final Rule (2025 Payment Notice). This ICR serves as a formal request to reinstate the data collection with change. Form Number: CMS-10666 (OMB control number: 0938-1329); Frequency: Annually; Affected Public: Private Sector—Business or other for-profits; Number of Respondents: 115; Number of Responses: 115; Total Annual Hours: 215. (For questions regarding this collection, contact Nikolas Berkobien at (667) 290-9903).

2. Type of Information Collection Request: Reinstatement without change of a previously approved collection; Title: State Medicaid Eligibility Quality Control Sample Selection Lists and Supporting Regulations; Use: Title XIX and title XXI State agencies are required to submit the MEQC pilot planning document in accordance with § 431.814(b), and the MEQC case level and CAP reports based on pilot findings in accordance with §§ 431.816 and 431.820, respectively. The primary users of this information are State Medicaid (and where applicable CHIP) agencies and CMS. State agencies are expected to use the information collected for continuous quality improvement purposes. They will identify patterns of error in their eligibility processing operations and systems and take corrective actions to address issues and improve the eligibility determination process. CMS will use the data collected to identify and help those States that are most in need of technical assistance. CMS will also use the data set to identify potential weaknesses in Federal regulations. It will propose regulatory modifications designed to ensure that there are more effective quality controls in the eligibility determination process.; Form Number: CMS-319 (OMB control number: 0938-0147); Frequency: Occasionally; Affected Public: State, Local, or Tribal Governments; Number of Respondents: 35; Number of Responses: 647; Total Annual Hours: 9,840. (For policy questions regarding this collection contact Camiel Rowe at 410-786-0069.

3. Type of Information Collection Request: Reinstatement without change of a previously approved information collection; Title of Information Collection: Coverage of Certain Preventive Services Under the Affordable Care Act; Use: Section 2713 of the PHS Act requires non-grandfathered group health plans and health insurance issuers offering non-grandfathered group or individual health insurance coverage to provide benefits for certain preventive services without cost sharing, including benefits for certain women's preventive health services as provided for in comprehensive guidelines supported by the Health Resources and Services Administration (HRSA). The 2018 final regulations titled “Religious Exemptions and Accommodations for Coverage of Certain Preventive Services Under the Affordable Care Act” (83 FR 57536) and “Moral Exemptions and Accommodations for Coverage of Certain Preventive Services Under the Affordable Care Act” (83 FR 57592) finalized interim final rules that expanded exemptions for religious beliefs and established an exemption for moral convictions for certain entities or individuals whose health plans may otherwise be subject to the mandate of contraceptive coverage. The final regulations extended the exemption to health insurance issuers that hold religious or moral objections in certain circumstances, as well as to additional categories of group health plan sponsors.

The 2018 final regulations also left in place, from previous rulemaking, an accommodation process for objecting entities who wish to use it to avoid contracting, arranging, paying, or referring for contraceptive coverage, but made use of the accommodation optional for such entities. An organization seeking to be treated as an eligible organization may self-certify (by using EBSA Form 700), prior to the beginning of the first plan year to which an accommodation is to apply, that it meets the definition of an eligible organization. The eligible organization must provide a copy of its self-certification to each health insurance issuer that would otherwise provide such coverage in connection with the health plan (for insured group health plans or student health insurance coverage). The issuer that receives the self-certification must provide separate payments for contraceptive services for plan participants and beneficiaries (or students and dependents). For a self-insured group health plan, the self-certification must be provided to its third party administrator, which must provide or arrange separate payments for contraceptive services. An eligible organization may submit a notification to the Department of Health and Human Services (HHS) as an alternative to submitting EBSA Form 700 to the eligible organization's health insurance issuer or third party administrator. A health insurance issuer or third party administrator providing or arranging payments for contraceptive services for participants and beneficiaries in plans (or student enrollees and covered dependents in student health insurance coverage) of eligible organizations must provide a written notice to such plan participants and beneficiaries (or such student enrollees and covered dependents) informing them of the availability of such payments.

Under the 2018 final regulations, eligible organizations can revoke the accommodation process if participants and beneficiaries (or student enrollees and covered dependents) receive written notice of such revocation from the issuer or third party administrator, and such revocation will be effective on the first day of the first plan year that begins on or after thirty days after the date of revocation. The Centers for Medicare & Medicaid Services is requesting to reinstatement OMB approval for the data collections included in this information collection request. HHS will only implement the information collections to the extent they are consistent with regulations that are currently in effect. Form Number: CMS-10653 (OMB control number: 0938-1344); Frequency: Occasionally; Affected Public: Private Sector; Number of Respondents: 60; Total Annual Responses: 595,312; Total Annual Hours: 72. (For policy questions regarding this collection contact Russell Tipps at 301-869-3502).

William N. Parham, III,
Director, Division of Information Collections and Regulatory Impacts, Office of Strategic Operations and Regulatory Affairs.

[FR Doc. 2026-01005 Filed 1-20-26; 8:45 am]

BILLING CODE 4120-01-P